DEPARTMENT OF TRANSPORTATION

Surface Transportation Board

[STB Finance Docket No. 34080]

Columbus & Ohio River Rail Road Company—Lease And Operation Exemption—Norfolk Southern Railway Company

Columbus & Ohio River Rail Road Company (C&ORR), a Class III rail carrier, has filed a verified notice of exemption under 49 CFR 1150.41 to acquire by lease from Norfolk Southern Railway Company (NS) and to operate approximately 0.4 miles of rail line, known as the Joyce Avenue Lead Track, between milepost N-702.5 and milepost N-702.9 in the vicinity of Columbus, Franklin County, OH. C&ORR certifies that its projected revenues as a result of this transaction will not result in the creation of a Class I or a Class II rail carrier.

The earliest date possible for consummation of the transaction is September 25, 2001, 60 days after C&ORR certified that it posted the required notice at the affected employees' workplace and served notice of the transaction, as required, on the national offices of the labor unions with the employees on affected line. See 49 CFR 1150.42(e).

C&ORR expects to improve the efficiency with which it interchanges traffic with NS as well as its direct service to shippers local to the subject line.

If the verified notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 34080, must be filed with the Surface Transportation Board, Office of the Secretary, Case Control Unit, 1925 K Street, NW., Washington, DC 20423-0001. In addition, a copy of each pleading must be served on Kelvin J. Dowd, Slover & Loftus, 1224 17th Street, NW., Washington, DC 20036.

Board decisions and notices are available on our website at WWW.STB.DOT.GOV.

Decided: August 15, 2001.
By the Board, David M. Konschnik, Director, Office of Proceedings.
Vernon A. Williams,
Secretary.

[FR Doc. 01-21036 Filed 8-22-01; 8:45 am]

BILLING CODE 4915-00-P